ENVIRONMENTAL PROTECTION AGENCY

[FRL-6938-7]

Proposed Settlement Agreement, Challenge to Final CAA Action

AGENCY: Environmental Protection Agency.

ACTION: Notice of Proposed Settlement; Request for Public Comment.

SUMMARY: In accordance with section 113(g) of the Clean Air Act, as amended, (the “Act”), 42 U.S.C. 7413(g), notice is hereby given of a proposed settlement agreement in Idaho Clean Air Force et al. v. EPA et al., Nos. 99-70259 and 70576 (9th Cir.) filed by the Idaho Clean Air Force and the Environmental Defense (formerly Environmental Defense Fund) under section 307(b)(1) of the Act, 42 U.S.C. 7607(b)(1). The Community Planning Association of Southwest Idaho (COMPASS) was granted leave to intervene as a respondent in the litigation.

DATES: Written comments on the proposed settlement agreement must be received by March 1, 2001.

ADDRESSES: Written comments should be sent to Michael Prosper, Air and Radiation Law Office (2344A), Office of General Counsel, U.S. Environmental Protection Agency, Ariel Rios Building North, 1200 Pennsylvania Avenue, NW., Washington, DC, 20004. Copies of the proposed settlement agreement are available from Samantha S. Hooks, (202) 564-7606.

SUPPLEMENTARY INFORMATION: This lawsuit challenged a final action by EPA which removed the applicability of the 1987 PM10 national ambient air quality standards, and associated designation and classification, for Northern Ada County, Idaho. 64 FR 12257 (March 12, 1999). EPA's action was primarily based on the promulgation in 1997 of more protective PM standards, including revised PM10 standards. In May of 1999 the U.S. Court of Appeals for the D.C. Circuit issued a decision, American Trucking Associations et al. v. EPA, 175 F.3d 1027 (D.C. Cir. 1999) which, among other things, vacated the newly-revised PM10 standards. This decision effectively removed the basis for the March 12th Northern Ada County rulemaking. The proposed settlement agreement is being entered into by the parties to the litigation, and by representatives of the Idaho Department of Environmental Quality (IDEQ) and the Idaho Attorney General's Office.

In general, the agreement being proposed provides that the litigation in the 9th Circuit Court of Appeals would be terminated, but with the possibility that it may be re-activated, pending completion of the obligations committed to by the parties in the settlement agreement. Additionally, IDEQ would develop and submit to EPA by September 30, 2002 a plan to ensure maintenance of the 1987 PM10 standards along with a request to redesignate Northern Ada County as attainment for those standards. During the period preceding such submission, IDEQ would also adopt by early next year and implement, as revisions to the existing State Implementation plan, two air quality rules that must limit and maintain emissions in the County from stationary and mobile sources at levels similar to what would be required if the area were still designated nonattainment for the 1987 PM10 standards. COMPASS has also committed to achieve the emissions reductions agreed to in the settlement agreement that fall within areas over which it exercises implementation responsibility.

In exchange for these undertakings, EPA would agree to delay taking final action on a proposed rulemaking we issued on June 26, 2000 which, if finalized, would reinstate the 1987 PM10 standards and associated nonattainment designation and classification for Northern Ada County. Also, if IDEQ submits a maintenance plan and request for redesignation of the County to attainment as described in the settlement agreement, EPA would agree to take final action on that submission by September 30, 2003.

If various parties to the settlement agreement fail to take certain specified actions by dates established in the agreement, then EPA would be required to take final action with respect to the June 26, 2000 proposed rulemaking. Final action on reinstatement may also occur if the area experiences a violation of the PM10 standards before a redesignation request and maintenance plan are approved by EPA. in addition, for similar failures to act as required by the agreement, any of the parties may re-activate the litigation in the 9th Circuit. Finally, the agreement reflects that EPA has committed to fund technical studies and other air pollution reduction initiatives to be undertaken in the area that are designed to ensure either that PM10 emissions are further minimized or that the air quality is not further degraded.

For period of thirty (30) days following the date of publication of this notice, EPA will receive written comments relating to proposed settlement agreement from persons who were not named as parties or interveners to the litigation in question. EPA or the Department of Justice may withdraw or withhold consent to the proposed settlement agreement if the comments disclose facts or considerations that indicate that such consent is inappropriate, improper, inadequate, or inconsistent with the requirements of the Act. Unless EPA or the Department of Justice determine, following the comment period, that consent is inappropriate, the settlement agreement will then be executed by the parties.

Dated: January 22, 2001.
Anna Wolgast,
Acting General Counsel.

[FR Doc. 01-2568 Filed 1-29-01; 8:45 am]

BILLING CODE 6560-50-M